MILLENNIUM CHALLENGE CORPORATION

[MCC FR 07-10]

Notice of the September 12, 2007 Millennium Challenge Corporation Board of Directors Meeting; Sunshine Act Meeting

Agency: Millennium Challenge Corporation.

Time and Date: 2 p.m. to 4 p.m., Wednesday, September 12, 2007.

Place: Department of State, 2201 C Street, NW., Washington, DC 20520.

For Further Information Contact: Information on the meeting may be obtained from Suzi M. Morris via e-mail at Board@mcc.gov or by telephone at (202) 521-3600.

Status: Meeting will be closed to the public.

Matters To Be Considered: The Board of Directors (the “Board”) of the Millennium Challenge Corporation (“MCC”) will hold a meeting to initiate the FY 2008 country selection process by identifying countries that will be candidates for Millennium Challenge Account (“MCA”) assistance in FY 2008 based on the per capita income and other requirements of Section 606(a) of the Millennium Challenge Act of 2003 (Pub. L. 108-199 (Division D)) (the “Act”); to consider proposed Millennium Challenge Account (“MCA”) Compacts under the provisions of Section 605(a) of the Millennium Challenge Act, codified at 22 U.S.C. 7704(a); and to consider MCC Threshold Program submissions for FY 2007 MCA assistance under Section 616 of the Millennium Challenge Act of 2003 (the “Act”) codified at 22 U.S.C. 7715; and certain administrative matters, all which are expected to involve the discussion of classified information. The meeting will be closed to the public.

Dated: August 30, 2007.
Henry Pitney,
Vice President and General Counsel (Acting), Millennium Challenge Corporation.

[FR Doc. 07-4333 Filed 8-30-07; 3:45 pm]

BILLING CODE 9211-03-P